THE NATIONAL FOUNDATION ON THE ARTS AND THE HUMANITIES

Institute of Museum and Library Services

Submission for OMB Review, Comment Request, Proposed Collection: Public Libraries Survey FY 2016-FY 2018

AGENCY: Institute of Museum and Library Services, National Foundation on the Arts and the Humanities.

ACTION: Submission for OMB review, comment request.

SUMMARY: The Institute of Museum and Library Services (IMLS) announces the submission of the following information collection to the Office of Management and Budget (OMB) for review and approval in accordance with the Paperwork Reduction Act. This program helps to ensure that requested data can be provided in the desired format, reporting burden (time and financial resources) is minimized, collection instruments are clearly understood, and the impact of collection requirements on respondents can be properly assessed.

A copy of the proposed information collection request can be obtained by contacting the individual listed below in the ADDRESSES section of this notice.

DATES: Written comments must be submitted by December 5, 2016 to be assured of consideration.

OMB is particularly interested in comments that help the agency to

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including through the use of appropriate automated electronic, mechanical, or other technological collection techniques or other forms of information technology, e.g. permitting electronic submissions of responses.

ADDRESSES: You may submit comments to Stephanie Burwell, Chief Information Officer, Office of the Chief Information Officer, Institute of Museum and Library Services, 955 L'Enfant Plaza North SW., Suite 4000, Washington, DC 20024-2135. Ms. Burwell can be reached by Telephone: 202-653-4684, Fax: 202-653-4625, Email: sburwell@imls.gov, or by teletype (TTY/TDD at 202-653-4614). Office hours are from 8:30 a.m. to 5 p.m., ET, Monday through Friday, except Federal holidays.

SUPPLEMENTARY INFORMATION: IMLS is the primary source of federal support for the Nation's 123,000 libraries and 35,000 museums. IMLS' mission is to inspire libraries and museums to advance innovation, learning, and civic engagement. IMLS works at the national level and in coordination with state and local organizations to sustain heritage, culture, and knowledge; enhance learning and innovation; and support professional development. IMLS is responsible for identifying national needs for and trends in museum, library, and information services; measuring and reporting on the impact and effectiveness of museum, library and information services throughout the United States, including programs conducted with funds made available by IMLS; identifying, and disseminating information on, the best practices of such programs; and developing plans to improve museum, library, and information services of the United States and strengthen national, State, local, regional, and international communications and cooperative networks (20 U.S.C. Chapter 72, 20 U.S.C. 9108).

Abstract: The Public Libraries Survey (PLS) has been conducted by IMLS under the clearance number 3137-0074, which expires 12/31/2016. The PLS collects annual descriptive data on the universe of public libraries in the United States, the District of Columbia, and outlying areas. Information such as public service hours per year, circulation of library books, number of librarians, population of legal service area, expenditures for library collection, programs for children and young adults, staff salary data, and access to technology, etc., would be collected.

Current Actions: This notice proposes clearance of the PLS. The 60-day notice for the PLS, FY 2016-2018, was published in the Federal Register on August 16, 2016, (FR vol. 81, No. 158, pgs. 54608-54609). There were no comments received under this notice.

Agency: Institute of Museum and Library Services.

Title: Public Libraries Survey, FY 2016—FY 2018.

OMB Number: 3137-0074.

Agency Number: 3137.

Affected Public: State and local governments, State library administrative agencies, and public libraries.

Number of Respondents: 56.

Note: 56 is the number of State Library Administrative Agencies (SLAAs) that are responsible for the collection of this information and for reporting it to IMLS. In gathering this information, the SLAAs will request that their sub-entities (i.e., public libraries in their respective states and outlying areas) provide information to the respective SLAA. As the number of sub-entities and questions varies from SLAA to SLAA, it is difficult to assess the exact number of burden hours and costs.

Frequency: Annually.

Burden hours per respondent: 104.98.

Total burden hours: 5,878.88.

Total Annualized capital/startup costs: n/a.

Total Annual Costs: $164,255.91.

Total Annual Federal Costs: $925,193.00.

CONTACT: Comments should be sent to Office of Information and Regulatory Affairs, Attn.: OMB Desk Officer for Education, Office of Management and Budget, Room 10235, Washington, DC 20503, (202) 395-7316.

Dated: October 31, 2016.
Kim A. Miller,
Grants Management Specialist, Office of the Chief Financial Officer.

[FR Doc. 2016-26567 Filed 11-2-16; 8:45 am]

BILLING CODE 7036-01-P